COMMITTEE FOR PURCHASE FROM PEOPLE WHO ARE BLIND OR SEVERELY DISABLED

Procurement List; Deletions

AGENCY: Committee for Purchase From People Who Are Blind or Severely Disabled.

ACTION: Additions to and deletions from the Procurement List.

SUMMARY: This action deletes product(s) and service(s) from the Procurement List that were furnished by nonprofit agencies employing persons who are blind or have other severe disabilities.

DATES: Date deleted from the Procurement List: July 31, 2022.

ADDRESSES: Committee for Purchase From People Who Are Blind or Severely Disabled, 1401 S. Clark Street, Suite 715, Arlington, Virginia 22202-4149.

FOR FURTHER INFORMATION CONTACT: Michael R. Jurkowski, Telephone: (703) 785-6404 or email CMTEFedReg@AbilityOne.gov.

SUPPLEMENTARY INFORMATION:

Deletions

On 9/10/2021, 12/23/2021, 1/28/2022, 2/25/2022, and 3/11/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, record keeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

MR 13075—Set, Mini Grate and Slice

MR 13047—Container, Leakproof, On-the-Go, Clear, Lunch

MR 13048—Container, Leakproof, On-the-Go, Clear, Salad

MR 13036—Herb Keeper, Green Saver, Large, 2.8 Qt

Designated Source of Supply: CINCINNATI ASSOCIATION FOR THE BLIND AND VISUALLY IMPAIRED, Cincinnati, OH

Contracting Activity: Military Resale-Defense Commissary Agency

NSN(s)—Product Name(s):

4240-00-NSH-0021—Hearing Protection, Behind-the-Head Earmuff, NRR 26Db

4240-00-NSH-0023—Hearing Protection, Behind-the-Head Earmuff, NRR 21Db

Designated Source of Supply: Access: Supports for Living Inc., Middletown, NY

Contracting Activity: DLA TROOP SUPPORT, PHILADELPHIA, PA

Service(s)

Service Type: Custodial and Grounds Maintenance Services

Mandatory for: Internal Revenue Service, Fresno Service Center, Fresno, CA, 5045 E. Butler Avenue, Fresno, CA

Designated Source of Supply: Goodwill Service Connection, Inc., Stockton, CA

Contracting Activity: INTERNAL REVENUE SERVICE, WESTERN REGION

Service Type: Janitorial/Custodial

Mandatory for: Port Angeles Federal Building: 138 W First Street, NULL, Port Angeles, WA

Contracting Activity: PUBLIC BUILDINGS SERVICE, GSA/PBS

Michael R. Jurkowski,
Acting Director, Business Operations.

[FR Doc. 2022-14121 Filed 6-30-22; 8:45 am]

BILLING CODE 6353-01-P